DEPARTMENT OF COMMERCE

Submission for OMB Review; Comment Request

The Department of Commerce will submit to the Office of Management and Budget (OMB) for clearance the following proposal for collection of information under the provisions of the Paperwork Reduction Act (44 U.S.C. 35).

Agency: National Oceanic and Atmospheric Administration (NOAA).

Title: National Oceanographic Data Center Send2NODC Web Application.

OMB Control Number: 0648-0024.

Form Number(s): None.

Type of Request: Regular (reinstatement with change of a previously approved information collection).

Number of Respondents: 200.

Average Hours per Response: 1 hour.

Burden Hours: 300.

Needs and Uses: This request is for reinstatement with change of a previously approved information collection. When creating a Request to Archive oceanographic data or information at the United States (U.S.) National Oceanographic Data Center (NODC), well-organized and complete metadata describing those data are needed for long term understanding and use of those data. The Send2NODC web application provides a web-based form for easily collecting required and optional descriptive metadata to describe oceanographic data in a way that supports Executive Order 12906 and structures those metadata to conform to the internationally used ISO19115-2 Geospatial Metadata standard. Descriptive metadata informs the suitability of data for use by future data users and should provide critical context about how data were collected, what techniques and measurements were made, and data quality characterizations. Information about the data provider or other individuals is used only by NODC to contact the data provider with questions about submitted data, about the status of the data in the archival process, and to provide appropriate scientific recognition and attribution for submitted data. Send2NODC will be used by ocean scientists, principal investigators and their data managers.

Change: Information submission is now generally web-based.

Method of Collection

Affected Public: Not-for-profit institutions; businesses or other for-profit organizations; state, local and tribal governments, federal government.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: December 29, 2014.
Glenna Mickelson,
Management Analyst, Office of the Chief Information Officer.

[FR Doc. 2014-30765 Filed 12-31-14; 8:45 am]

BILLING CODE 3510-HR-P